DEPARTMENT OF THE INTERIOR

National Park Service

[NPS-WASO-NAGPRA-16020; PPWOCRADN0-PCU00RP14.R50000]

Notice of Inventory Completion: Indiana University-Purdue University Fort Wayne-Archaeological Survey, Fort Wayne, IN

AGENCY: National Park Service, Interior.

ACTION: Notice.

SUMMARY: The Indiana University-Purdue University Fort Wayne-Archaeological Survey (hereafter IPFW-AS) has completed an inventory of human remains and associated funerary objects in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains should submit a written request to the IPFW-AS. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the IPFW-AS at the address in this notice by August 20, 2014.

ADDRESSES: Craig R. Arnold, IPFW-AS, 2101 East Coliseum Blvd., Kettler Hall Room G11A, Fort Wayne, IN 46805, telephone (260) 481-6194, email arnoldc@ipfw.edu.

SUPPLEMENTARY INFORMATION: Notice is here given in accordance with the Native American Graves Protection and Repatriation Act (NAGPRA), 25 U.S.C. 3003, of the completion of an inventory of human remains and associated funerary objects under the control of the IPFW-AS, Fort Wayne, IN. The human remains and associated funerary objects were removed from Clark County, IN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the IPFW-AS professional staff in consultation with representatives of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma.

History and Description of the Remains

In 2003 and 2005, human remains representing, at minimum, four individuals were removed from the Prather site (12CL4) in Clark County, IN. The human remains were recovered during excavations administered through the Indiana Department of Natural Resources, Division of Historic Preservation and Archaeology. The human remains and associated funerary objects were recovered from an auger probe (2003 excavations) and from archeological test units (2005 excavations). The artifacts were processed in a laboratory at Indiana University. Upon project completion, the artifacts and project documentation were transferred to the IPFW-AS. IPFW-AS is in possession of all artifacts and most project materials associated with the project. No known individuals were identified.

The 367 associated funerary objects from the 2003 excavation at 12CL4 include 1 chert core, 1 charcoal piece, 27 debitage flakes, 284 faunal remain pieces, 21 pieces of natural rock, 32 shell-tempered ceramic sherds, and 1 item classified as unsorted material.

The 3,460 associated funerary objects from the 2005 excavation of Block 1 at 12CL4 include 3 chert cores; 8 charcoal pieces (16.6 grams); 224 daub pieces; 626 debitage flakes; 1 chert drill; 1,088 faunal items; 97 historic artifacts; 347 rocks, pebbles, and fossils; 1 lamellar blade; 1 projectile point; 1,063 ceramic sherds; and 1 lot of 197.4 grams of residue.

The 8,563 associated funerary objects from the 2005 excavation of Block 2 at 12CL4 include 18 chert cores; 12 bifacial chert performs; 1 celt; 2 ceramic objects; 1 ceramic pipe; 2,317 ceramic sherds; 54 charcoal pieces (71.998 grams); 19 chert tools (projectile point, scraper, drill, etc.); 473 daub pieces; 1,332 debitage flakes; 3,988 faunal items; 22 faunal tools; 1 ground stone coal item; 4 historic pieces; 309 pebbles and rocks; 5 red ochre pieces; 2 sandstone slab fragments; and 3 lots of 367.42 grams listed as residue.

The Prather site can almost certainly be assigned a Mississippian classification that dates between A.D. 1050 to 1300.

In 2003, human remains representing, at minimum, three individuals were removed from a midden context at the Clark's Point site (12CL3), in Clark County, IN. The Falls of the Ohio Archaeological Society (FOAS) began to excavate beyond where the IPFW-AS excavation terminated, but halted operations after encountering a potential in situ interment. The initial faunal analysis conducted on a portion of the assemblage identified 41 human elements, or fragments thereof, with a recommendation that the balance of the collection be examined (White 2004, Appendix C). The balance of the faunal material was examined in 2014 and identified an additional 9 human elements, or fragments thereof. Altogether, these remains include two proximal tibia fragments from a fetal individual. There is a proximal tibia element, a rib, and a humerus fragment from an individual estimated to be a juvenile. Some of the cranial elements may also be from this juvenile as the sutures have not yet molded over. No known individuals were identified. The 2,827 associated funerary objects include 14 hafted bifaces; 23 chert bifaces; 53 unifacial chert tools; 57 chert cores; 2,616 chert debitage pieces; 58 worked bone and antler pieces (tools and debris); 1 lot of floral and faunal remains; 1 lot of fire-cracked rock; 1 lot of recent historic items; and 3 lots of 21,215.7 grams of materials that could not be accurately counted were recovered, including carbonized wood, faunal remains, light and heavy fraction, and rock.

In 2008 and 2010, human remains representing, at minimum, four individuals were removed from the Smith-Sutton site (12CL130). Three elements were recovered from contexts unassociated with the interment. These are comprised of a molar (2008), a neonate, and mid-shaft tibia element fragments. The balance of the human remains can be directly associated with the burial in Block 2 that was exposed in 2010. These remains are comprised of a rib fragment and distal phalanges from the feet of the burial. No known individuals were identified.

The 8,682 associated funerary objects from the 2010 excavation of Block 2 include 5,778 ceramic sherds; 1,929 chipped stone artifacts; 913 pieces of fire-cracked rock; 54 pieces of modified fauna; 6 non-chipped stone tools; 1 historic coal or cinder/slag; and 1 lot of 11,473.3 grams of materials that could not be accurately counted were recovered, including burned daub, and floral and faunal remains.

The Smith-Sutton site can almost certainly be assigned a Mississippian classification that dates to approximately A.D. 1440.

Determinations Made by the Indiana University-Purdue University Fort Wayne-Archaeological Survey

Officials of the IPFW-AS have determined that:

• Pursuant to 25 U.S.C. 3001(9), the human remains described in this notice are Native American based on the provenience, collection histories, and skeletal traits.

• Pursuant to 25 U.S.C. 3001(9), the human remains described in this notice represent the physical remains of at least 11 individuals of Native American ancestry.

• Pursuant to 25 U.S.C. 3001(3)(A), the 23,899 objects or lots described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma.

• Treaties, Acts of Congress, or Executive Orders, indicate that the land from which the Native American human remains and associated funerary objects were removed is the aboriginal land of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma.

• Pursuant to 43 CFR 10.11(c)(1), the disposition of the human remains and associated funerary objects may be to the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma.

Additional Requestors and Disposition

Representatives of any Indian tribe or Native Hawaiian organization not identified in this notice that wish to request transfer of control of these human remains and associated funerary objects should submit a written request with information in support of the request to Craig Arnold, Indiana University Purdue University at Fort Wayne-Archaeological Survey, 2101 E Coliseum Blvd., Kettler G11A, Fort Wayne, IN 46805, telephone (260) 481-6194, email arnoldc@ipfw.edu, by August 20, 2014. After that date, if no additional requestors have come forward, transfer of control of the human remains and associated funerary objects to the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma may proceed.

The IPFW-AS is responsible for notifying the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; The Quapaw Tribe of Indians; and the United Keetoowah Band of Cherokee Indians in Oklahoma that this notice has been published.

Dated: June 12, 2014.
David Tarler,
Acting Manager, National NAGPRA Program.

[FR Doc. 2014-17092 Filed 7-18-14; 8:45 am]

BILLING CODE 4312-50-P